INTERNATIONAL TRADE COMMISSION

[Investigation No. 337-TA-830]

Certain Dimmable Compact Fluorescent Lamps and Products Containing Same; Institution of Investigation Pursuant to 19 U.S.C. 1337

AGENCY: U.S. International Trade Commission.

ACTION: Notice.

SUMMARY: Notice is hereby given that a complaint was filed with the U.S. International Trade Commission on January 23, 2012, under section 337 of the Tariff Act of 1930, as amended, 19 U.S.C. 1337, on behalf of Andrzej Bobel of Lake Forest, Illinois and Neptun Light, Inc. of Lake Forest, Illinois. An amended complaint was filed on February 8, 2012. The amended complaint alleges violations of section 337 based upon the importation into the United States, the sale for importation, and the sale within the United States after importation of certain dimmable compact fluorescent lamps and products containing same by reason of infringement of certain claims of U.S. Patent No. 5,434,480 (“the '480 patent”) and U.S. Patent No. 8,035,318 (“the '318 patent”). The amended complaint further alleges that an industry in the United States exists as required by subsection (a)(2) of section 337.

The complainants request that the Commission institute an investigation and, after the investigation, issue an exclusion order and cease and desist orders.

ADDRESSES: The amended complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the amended complaint, the U.S. International Trade Commission, on February 21, 2012, ordered that—

(1) Pursuant to subsection (b) of section 337 of the Tariff Act of 1930, as amended, an investigation be instituted to determine whether there is a violation of subsection (a)(1)(B) of section 337 in the importation into the United States, the sale for importation, or the sale within the United States after importation of certain dimmable compact fluorescent lamps and products containing same that infringe one or more of claim 9 of the '480 patent and claims 1 and 12 of the '318 patent, and whether an industry in the United States exists as required by subsection (a)(2) of section 337;

(2) For the purpose of the investigation so instituted, the following are hereby named as parties upon which this notice of investigation shall be served:

(a) The complainants are:

Andrzej Bobel, 640 Leland Court, Lake Forest, IL 60045.

Neptun Light, Inc., 13950 W. Business Center Drive, Lake Forest, IL 60045.

(b) The respondents are the following entities alleged to be in violation of section 337, and are the parties upon which the complaint is to be served:

SK America, Inc. d/b/a Maxlite, 80 Little Falls Road, Fairfield, NJ 07004.

U Lighting America Inc., 2448 Balme Drive, San Jose, CA 95122.

Golden U Lighting Manufacturing (Shenzhen), Co., Ltd. 3F, Block A3, Xinjianxing, Industrial Park, Fengxin Road, Lou, Village, Guangming, District Shenzhen, Guangdong, China 518107.

Feit Electric Company, Inc., 4901 Gregg Road, Pico Rivera, CA 90660-2108.

General Electric Company, 3135 Easton Turnpike, Fairfield, CT 06828-0001.

Xiamen Topstar Lighting Co. Ltd., No. 676, Meixi Road, Tong'an, Xiamen, Fujan, China 361100.

Technical Consumer Products, Inc., 325 Campus Drive, Aurora, OH 44202.

TCP China, Shanghai Office, 2208-2210 Room, 2nd Building, 270 CaoXi, Road, Xuhui District, Shanghai, China.

TCP (Shanghai) Tiancanbao Lighting, Electrical Appliance Co., Ltd., Room A502, No. 250 Cai Xi Road, Shanghai, China 200235.

Shanghai Jensing Electron Electrical, Equipment Co., Ltd., No. 23 Kai Jiang Road East, Si Jing, Song Jiang, Shanghai, China 201601.

Shanghai Qiangling Electronics Co., Ltd., No. 139 Wang Dong South Road E, Si Jing song Jiang, Shanghai, China.

Zhejiang Qiang Ling Electronic Co. Ltd., No. 200, Xuefu Road, Runzhou District, Zhenjiang, Jiangsu 212003, China;

and

(3) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: February 22, 2012.
James R. Holbein,
Secretary to the Commission.

[FR Doc. 2012-4431 Filed 2-24-12; 8:45 am]

BILLING CODE 7020-02-P